FEDERAL ENERGY REGULATORY COMMISSION

Combined Notice of Filings

Take notice that the Commission has received the following Natural Gas Pipeline Rate and Refund Report filings:

Filings Instituting Proceedings

Docket Number: PR17-50-000.

Applicants: Rocky Mountain Natural Gas LLC.

Description: Tariff filing per 284.123(b),(e)/: Revised Statement of Operating Conditions to be effective 6/22/2017; Filing Type: 1000.

Filed Date: 6/21/17.

Accession Number: 201706215104.

Comments/Protests Due: 5 p.m. ET 7/12/17.

Docket Numbers: RP17-836-000.

Applicants: Granite State Gas Transmission, Inc.

Description: Granite State Gas Transmission, Inc. submits tariff filing per 154.204: Section 4 Rate Change Filing to be effective 8/1/2017.

Filed Date: 06/21/2017.

Accession Number: 20170621-5066.

Comment Date: 5:00 p.m. Eastern Time on Monday, July 3, 2017.

Docket Numbers: RP17-837-000.

Applicants: MIGC LLC.

Description: Annual Fuel Retention Percentage Tracker of MIGC LLC.

Filed Date: 06/21/2017.

Accession Number: 20170621-5133.

Comment Date: 5:00 p.m. Eastern Time on Monday, July 3, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 22, 2017.
Nathaniel J. Davis, Sr.
Deputy Secretary.

[FR Doc. 2017-13962 Filed 6-30-17; 8:45 am]

BILLING CODE 6717-01-P